DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revision and three-year extension under section 3507(h)(1) of the Paperwork Reduction Act of 1995 of the surveys in the Natural Gas Data Collection Program Package. The surveys covered by this request include:

• Form EIA-176, “Annual Report of Natural and Supplemental Gas Supply and Disposition”

• EIA-191, “Monthly and Annual Underground Gas Storage Report”

• EIA-857, “Monthly Report of Natural Gas Purchases and Deliveries to Consumers”

• EIA-895, “Monthly and Annual Quantity and Value of Natural Gas Production Report” (The EIA proposes to eliminate the current monthly reporting of Form EIA-895 and only require an annual report.)

• EIA-910, “Monthly Natural Gas Marketer Survey”

• EIA-912, “Weekly Underground Natural Gas Storage Report”

In addition, EIA is proposing that the following new survey be approved by OMB.

• EIA-913, “Monthly and Annual Liquefied Natural Gas (LNG) Storage Report”

DATES: Comments must be filed by May 6, 2005. If you anticipate difficulty in submitting comments within that period, contact the person listed below as soon as possible.

ADDRESSES: Send comments to Mr. Stephen Nalley, Natural Gas Division, Office of Oil and Gas, Energy Information Administration. To ensure receipt of the comments by the due date, submission by fax (202-586-4420) or e-mail (stephen.nalley@eia.doe.gov) is recommended. The mailing address is Mr. Stephen Nalley, Energy Information Administration, U.S. Department of Energy, 1000 Independence Ave., SW, EI-44, Washington, DC 20585. Also, Mr. Nalley may be contacted by telephone at 202-586-0959.

FOR FURTHER INFORMATION CONTACT: Requests for additional information or copies of any forms and instructions should be directed to Mr. Nalley at the address listed above.

Also, the draft forms and instructions are available on the EIA Web site at http://www.eia.doe.gov/oil_gas/fwd/proposed.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet both near and longer-term domestic demands.

The EIA, as part of its effort to comply with the Paperwork Reduction Act of 1995 (Pub. L. 104-13, 44 U.S.C. Chapter 35), provides the general public and other Federal agencies with opportunities to comment on the collection of energy information conducted by or in conjunction with the EIA. Any comments received help the EIA prepare data requests that maximize the utility of the information collected, and assess the impact of collection requirements on the public. As required by section 3507(h)(1) of the Paperwork Reduction Act of 1995, the EIA will later seek approval by the Office of Management and Budget (OMB).

The natural gas surveys included in the Natural Gas Data Collection Program Package collect information on natural gas production, underground storage, transmission, distribution, and consumption by sector, and wellhead and consumer prices. This information is used to support public policy analyses of the natural gas industry and estimates generated from data collected on these surveys are posted to the EIA Web site (http://www.eia.doe.gov) in various EIA products, including the Weekly Natural Gas Storage Report (WNGSR), Natural Gas Monthly (NGM), Natural Gas Annual (NGA), Monthly Energy Review (MER), Short-Term Energy Outlook (STEO), Annual Energy Outlook (AEO), and Annual Energy Review (AER). Respondents to EIA natural gas surveys include State agencies, underground storage operators, transporters, marketers, and distributors. Each form included as part of this package is discussed in detail below.

EIA-176, “Annual Report of Natural and Supplemental Gas Supply and Disposition”

In conjunction with data collected in other EIA surveys, Form EIA-176 provides EIA with the major elements of information required to develop annual gas supply and disposition balances and relevant cost, price, and related information at the State level. It is used for the following purposes:

(1) To develop and make available to Congress, State government, and the public an accurate quantified overview of the supply of natural and supplemental gas available to each of the States from all sources both internal and external to the State, and the manner in which such supply was utilized or otherwise disposed of,

(2) To determine the quantity of natural and supplemental gas consumed within each of the States by market sector, the average sales prices for such gas, and the changes in consumption and price patterns over time.

EIA-191, “Monthly and Annual Underground Gas Storage Report”

Form EIA-191 is comprised of a monthly (EIA-191M) and annual (EIA-191A) schedule. The EIA-191M currently requests monthly data on the location and operations of all active underground natural gas storage fields. The EIA-191A collects data on total field capacity, operation capability and field type as of December 31 of the reporting year. Storage data are a critical link in understanding the deliverability of the natural gas system of the United States and overall system operations.

The information collected on Form EIA-191 will be used in the following ways:

(1) To provide State-level data on underground natural gas storage with respect to injections, withdrawals, inventories, and type of storage facility, location, and capacity. These data will be made available through EIA's NGM, NGA, MER, and AER. Monthly data collection also provides reliable baseline data on storage operations necessary for analyses, modeling, and comparison with normal industry operations in cases of severe weather, natural disaster, or other extreme circumstances,

(2) To provide data on all aspects of underground natural gas storage to enable EIA and other elements of DOE to identify and assess the supplies of gas in storage by geographic location.

EIA-857, “Monthly Report of Natural Gas Purchases and Deliveries to Consumers”

Monthly State-level data collected on the Form EIA-857 consist of average price of natural gas purchased by local distribution companies at their city gates, consumption of natural gas by sector, and average sales price by sector. These data are necessary to provide timely information needed to measure the combined impact of government, industry, and consumer actions; geographic location; climatic conditions; and other factors on the natural gas industry and natural gas consumers. The data collected on the Form EIA-857 are used to develop information for publication in EIA's STEO, NGM, and MER, and to make the data available to Congress, State governments, industry, and the public.

EIA-895, “Monthly and Annual Quantity and Value of Natural Gas Production Report”

Form EIA-895 is a voluntary survey, which is comprised of monthly (EIA-895M) and annual (EIA-895A) schedules. The EIA-895M collects monthly information from the appropriate State agencies concerning natural gas production. It provides details on gross withdrawals from gas and oil wells and from coalbed methane wells, volumes vented and flared, volumes of nonhydrocarbon gases removed, gas used as fuel on leases, and the amount of natural gas available for market. These data are routinely collected by States for taxation, conservation, or statistical purposes. In addition to providing an annual summary of the monthly collected data, the EIA-895A provides detail on the value of marketed production.

EIA-910, “Monthly Natural Gas Marketer Survey”

Form EIA-910 collects monthly information for developing accurate estimates of State-level prices paid by residential and commercial consumers of natural gas in states where a choice program exists. Data from the EIA-910 are combined with data from the EIA-857 to produce more complete and accurate price estimates.

EIA-912, “Weekly Underground Natural Gas Storage Report”

The EIA-912 data collection responds to requests to provide weekly measures of natural gas underground storage operations. Through this survey instrument, EIA provides a weekly data series on underground storage of natural gas similar to what was previously published by the American Gas Association (AGA). AGA discontinued its data collection on May 1, 2002. EIA first released data from the survey on May 9, 2002. Data are now published weekly in the WNGSR. EIA uses the data to prepare analytical products assessing storage operations in the three AGA regions and their impact on supplies available for the winter heating season, and in more detailed analyses correlating demand, heating-degree-days, and prior inventory levels. Such correlations help EIA to understand the impact of storage operations on natural gas supply and demand.

EIA-913, “Monthly and Annual Liquefied Natural Gas (LNG) Storage Report”

In 2003, EIA proposed a survey to monitor the monthly volume of LNG in storage and annual operational capacities of active LNG storage facilities in the United States. However, EIA did not implement this proposal due to modest public interest and limited budget resources. At the time of that decision, EIA committed to monitor the LNG market and reevaluate the usefulness of an LNG storage survey at a later date. EIA has prepared a revised proposal that has reduced the budget requirements and has also reduced the survey scope. The current proposal is discussed further in Section II.

Please refer to the proposed forms and instructions for more information about the purpose, who must report, when to report, where to submit, the elements to be reported, detailed instructions, provisions for confidentiality, and uses (including possible nonstatistical uses) of the information. For instructions on obtaining materials, see the For Further Information Contact section.

II. Current Actions

EIA will be requesting a three-year extension of the collection authority for each of the above-referenced surveys, including the proposed new EIA-913. In addition, EIA proposes the changes outlined below that affect the EIA-176, EIA-191, EIA-857, EIA-895, EIA-910, EIA-912, and EIA-913.

Form EIA-176, “Annual Report of Natural and Supplemental Gas Supply and Disposition”

No significant changes are proposed for the EIA-176. Minor changes will be made to the survey form and instructions in order to provide simplicity and clarity. Although EIA proposes to continue the collection of the “Operation type” data, EIA is requesting comments regarding the practical utility of the data. EIA proposes to add a question about the use of alternative fueled vehicles to assist in the development of a comprehensive survey frame of respondents for the EIA-886, “Annual Survey of Alternative Fueled Vehicles Suppliers and Users.”

Form EIA-191, “Monthly and Annual Underground Gas Storage Report”

In addition to several minor changes to the instructions and monthly and annual schedules of Form EIA-191 for the purpose of simplicity and clarity, EIA proposes significant revisions to the data collected under Form EIA-191 as detailed below:

EIA-191A

In an effort to reduce respondent burden and simplify reporting requirements, EIA proposes to eliminate the “Pipelines to which this field is connected,” as well as to eliminate the check boxes used to note if data have changed from the previous annual report. EIA proposes to add the collection of “Working Gas Capacity” and the field status (i.e. active, abandoned, depleting, etc.) as of December 31 of each year. EIA is proposing that the data collected on the revised Annual Schedule of the EIA-191 will not be confidential, making individual company data of the following types available to the public: Storage Field Names, Reservoir Names, Location, Type of Facility, Total Field Capacity, Working Gas Capacity, and Maximum Deliverability, for all natural gas storage fields reporting on the EIA-191A.

EIA-191M

In an effort to reduce respondent burden, EIA proposes to eliminate the request for “Peak day” and “Peak day withdrawals” from the EIA-191M. The addition of a check box to signal capacity change for the field will be added.

Form EIA-857, “Monthly Report of Natural Gas Purchases and Deliveries to Consumers”

No significant changes are proposed for the Form EIA-857. The instructions will include minor changes to provide simplicity and clarity. Although EIA proposes to continue the collection of the “Purchased City-Gate” data, EIA is requesting comment regarding the practical utility of the data.

Form EIA-895, “Annual and Monthly Quantity and Value of Natural Gas Production Report”

In addition to several minor changes to the instructions of Form EIA-895, EIA proposes significant revisions to the data collected under Form EIA-895 as detailed below:

EIA-895A

EIA proposes to continue collecting the annual data with no significant change.

EIA-895M

EIA proposes to eliminate the current monthly schedule for Form EIA-895 as a source of production and disposition of natural gas components and used to calculate monthly marketed production estimates. Estimates based on the EIA-914, “Monthly Natural Gas Production Report,” will replace this monthly data source. Thus, there will be no monthly reporting with Form EIA-895.

Form EIA-910, “Monthly Natural Gas Marketer Survey”

No significant changes are proposed for the EIA-910. Minor changes will be made to the survey form and instructions.

Form EIA-912, “Weekly Underground Natural Gas Storage Report”

No significant changes are proposed for the EIA-912. Minor changes will be made to the survey form and instructions.

Form EIA-913, “Monthly (September-March) and Annual Liquefied Natural Gas (LNG) Storage Report”

In 2003, EIA proposed to collect monthly and annual LNG storage information, but decided not to implement that proposal at that time. EIA promised to continue to monitor the LNG market and reconsider the proposed survey at a future time. LNG has an increasingly important role as a source of natural gas supply, especially during periods of peak demand. Therefore, EIA is proposing to conduct LNG storage surveys, subject to funds being provided in the FY2007 budget. If funding is made available, the survey would most likely not begin until calendar year 2007.

The current LNG survey proposal is different from the 2003 LNG Storage Report proposal. The current proposal would have the survey operate seasonally and monitor monthly storage levels during September through March only, whereas the 2003 proposal would have monitored monthly storage levels throughout the entire year. The current proposal also requires that respondents report only one monthly data item; i.e., the amount of LNG in storage as of the report date. The 2003 proposal required respondents to report the amount of LNG in storage, LNG additions, LNG withdrawals, LNG peak day and LNG peak day withdrawals. Additionally, unlike the 2003 proposed survey, the 2005 proposed monthly survey would be administered via the telephone in order to increase timeliness of product dissemination and reduce respondent burden. The proposed annual survey form is similar to the one included in the 2003 proposal. Respondents will be required to report: Storage facility name, state location of the storage facility, storage facility design capacity, maximum liquefaction design capacity, maximum vaporization design capacity, trailer loading/unloading ability and number of bays, and whether the capacity had changed from what was previously reported.

All operators of facilities that store LNG for baseload, seasonal, and peak demand delivery in the United States, or for delivery to United States customers for these purposes would be required to complete the mandatory report. This will include operators with LNG inventories such as distribution companies, pipeline companies, liquefaction facilities, LNG wholesalers, and marine terminals providing peaking storage services. The survey coverage will not include LNG inventories held by any industrial, residential, commercial, or power generation operations for ultimate consumption.

Respondents would be required to complete the EIA-913 Annual Schedule at the start of the survey and subsequently once a year in September thereafter and whenever a new facility begins operation or a change in storage operator or storage capacity occurs. The EIA would contact the respondents on the first Monday of the month or the first business day after the first Monday of the month in the event of a holiday.

The aggregate data collected on the Form EIA-913 for the United States and several multi-state regions would be used to develop national and regional level estimates for publication in the NGM, MER, and NGA; no State level data would be published. EIA proposes that monthly respondent data would be treated as sensitive, proprietary information while respondent data from the annual schedule would not be confidential.

III. Request for Comments

Prospective respondents and other interested parties should comment on the actions discussed in items II and III. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Would burden be reduced if applicable data were collected in Btu (heat content) rather than Mcf basis (volumetric, as it is on some surveys)?

B. Would burden be increased if EIA adopted a standard mandatory revision rule for its natural gas surveys requiring resubmission of data for revisions greater than 4 percent?

C. Are the instructions and definitions clear and sufficient? If not, which instructions need clarification?

D. Can the information be submitted by the due date?

E. Public reporting burden for the surveys included in the Natural Gas Data Collection Program Package is shown below as an average hour(s) per response. The estimated burden includes the total time necessary to provide the requested information. In your opinion, how accurate is this estimate for the proposed forms?

(1) Form EIA-176, “Annual Report of Natural and Supplemental Gas Supply and Disposition”; 12 hours per response.

(2) Form EIA-191A, “Annual Underground Gas Storage Report”; 1 hour per response.

(3) Form EIA-191M, “Monthly Underground Gas Storage Report”; 2.5 hours per response.

(4) Form EIA-857, “Monthly Report of Natural Gas Purchases and Deliveries to Consumers”; 3.5 hours per response.

(5) Form EIA-895, “Annual Quantity and Value of Natural Gas Production Report”; .5 hours per response.

(6) Form EIA-910, “Monthly Natural Gas Marketer Survey”; 2 hours per response.

(7) Form EIA-912, “Weekly Underground Natural Gas Storage Report”; 0.5 hour per response.

(8) Form EIA-913A, “Annual Liquefied Natural Gas (LNG) Storage Report”; 1 hour per response.

(9) Form EIA-913M, “Monthly (September-March) Liquefied Natural Gas (LNG) Storage Report”; 0.5 hour per response.

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

I. Does any other Federal, State, or local agency collect similar information? If so, specify the agency, the data element(s), and the methods of collection.

As a Potential User of the Information To Be Collected

A. Is the information useful at the levels of detail to be collected?

B. For what purpose(s) would the information be used? Be specific.

C. Are there alternate sources for the information and are they useful? If so, what are their weaknesses and/or strengths?

D. Would the information be more useful if published uniformly in Btu rather than volumetrically? Which is the perceived industry standard?

Comments submitted in response to this notice will be summarized and/or included in the request for OMB approval of the form. They also will become a matter of public record.

Authority: Sec. 3507(h)(1) of the Paperwork Reduction Act of 1995 (Pub. L. 104-13, 44 U.S.C. Chapter 35).

Issued in Washington, DC, on March 1, 2005.
Jay Casselberry,
Agency Clearance Officer, Energy Information Administration.

[FR Doc. 05-4343 Filed 3-4-05; 8:45 am]

BILLING CODE 6450-01-P